DEPARTMENT OF THE INTERIOR

Fish and Wildlife Service

50 CFR Chapter I

[Docket No. FWS-HQ-NWRS-2023-0024; FXRS12610900000-FF09R25000-234]

National Wildlife Refuge System Planning Policies (602 FW 1-4) for the U.S. Fish and Wildlife Service

AGENCY: Fish and Wildlife Service, Interior.

ACTION: Proposed policy updates; request for comment.

SUMMARY: We, the U.S. Fish and Wildlife Service (Service), are making available for public comment our proposed updated planning policies, 602 FW 1-4, for the National Wildlife Refuge System (Refuge System). The purpose of these policy updates is to modernize the Refuge System's refuge management by incorporating landscape conservation plans and consideration of climate change and other anthropogenic forces in refuge management.

DATES: The Service will accept comments received or postmarked on or before October 16, 2023. Please note that if you are using Regulations.gov (see ADDRESSES), the deadline for submitting an electronic comment is 11:59 p.m. Eastern Standard Time on this date.

ADDRESSES:

Obtaining Documents: You may obtain copies of the documents online at https://www.regulations.gov. In the Search box, enter the docket number, which is FWS-HQ-NWRS-2023-0024.

Submitting Comments: You may submit comments by one of the following methods:

• Internet: https://www.regulations.gov. In the Search box, enter the docket number, which is FWS-HQ-NWRS-2023-0024. You may enter a comment by clicking on the “Comment” button. Please ensure that you have found the correct docket before submitting your comment.

• U.S. mail or hand delivery: Public Comments Processing, Attn: Docket No. FWS-HQ-NWRS-2023-0024; Policy and Regulations Branch; U.S. Fish and Wildlife Service; 5275 Leesburg Pike, MS: PRB (JAO/3W); Falls Church, VA 22041-3803.

We will post all comments on https://www.regulations.gov. This generally means that we will post any personal information you provide us (see Request for Information, below, for more information).

FOR FURTHER INFORMATION CONTACT: Julie Henning, Chief, Branch of Conservation Planning and Policy, National Wildlife Refuge System, via email at julie_henning@fws.gov; by mail at U.S. Fish and Wildlife Service, c/o Julie Henning, 5275 Leesburg Pike, Falls Church, VA 22041-3803; or by telephone at (703) 358-1945. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Introduction

We are providing four proposed updated National Wildlife Refuge System (Refuge System) planning policies for public comment. The Refuge System's authority for these policies comes from the Refuge System Administration Act of 1966, as amended by the Refuge System Improvement Act of 1997 (Administration Act) (16 U.S.C. 668dd-668ee). When these proposed policies become final, we will incorporate them in part 602 of the Service Manual, and they will replace the existing policies at 602 FW 1, 3, and 4. Service Manual chapter 602 FW 2 will replace 341 FW 1 and 2, both published in 1996. The purpose of the policy updates is to modernize the Refuge System's refuge management by incorporating landscape conservation planning and design and consideration of climate change and other anthropogenic forces in refuge management.

Draft Policies

Refuge planning sets the broad vision for refuge management and determines goals, objectives, strategies, and actions to ensure refuges are managed consistently with a refuge's purposes; the Refuge System's mission and goals; the Administration Act, as amended; the Alaska National Interest Lands Conservation Act (ANILCA, for Alaska refuges); and all other applicable laws and regulations. The four planning policies the Service is updating are: Refuge Planning Overview (602 FW 1), Land Protection Planning (602 FW 2), Comprehensive Conservation Planning (602 FW3), and Step-down Planning (602 FW 4).

• 602 FW 1, Refuge Planning Overview, describes the Service's overall policy and goals for refuge planning, such as landscape context and habitat connectivity, as well as how the Refuge System incorporates climate adaptation and resiliency into refuge planning. The policy also describes how the Refuge System coordinates with Federal, State, and local agencies; Tribes; Alaska Native Corporations (ANCs); Alaska Native Organizations (ANOs); the Native Hawaiian Community; territories; and other partners and stakeholders in refuge planning.

• 602 FW 2, Land Protection Planning, describes the Service's overall policy and goals for land protection planning, and establishes who is responsible for different aspects of land protection planning. The policy provides an overview of the Service's land protection planning process, including coordination with partners, land acquisition, and minor and major refuge boundary modifications.

• 602 FW 3, Comprehensive Conservation Planning, describes the Service's overall policy and goals for comprehensive conservation planning, and establishes who is responsible for different aspects of the process. The policy provides an overview of the requirements for developing comprehensive conservation plans (CCPs), including CCPs for new refuges, their scope, their required content, and coordination with partners. Finally, it provides guidance for reviewing and updating CCPs.

• 602 FW 4, Step-down Planning, describes the Service's overall policy and goals for step-down planning, and establishes who is responsible for different aspects of step-down planning. The policy provides an overview of the requirements for developing step-down plans, including how they are integrated with CCPs, consideration of the National Environmental Policy Act, and coordination with partners. Finally, it provides guidance for reviewing and updating step-down plans.

Background and Development of These Draft Policies

Many of the planning and natural resource regulations and policies guiding the Refuge System were developed following passage of the Improvement Act more than 20 years ago. Much has changed since then, and there is a need to consider climate change and other anthropogenic forces more explicitly and effectively in Refuge System management. The Service must also incorporate landscape planning and design into its planning policies. These are just a few of the drivers that led to convening five chartered national Service teams to update existing or develop new natural resource regulations, policies, and handbooks for the Refuge System. The Service's Conservation Planning team is comprised of Service planning subject-matter experts from across the agency's Regions.

These draft policy updates were distributed for internal Service review throughout all Regions and programs within the agency in August of 2022. We provided an opportunity for State engagement through the Association of Fish and Wildlife Agencies in February 2023. Additionally, we hosted national webinars and provided opportunity for engagement by Tribal leaders, ANCs, ANOs, and the Native Hawaiian Community in February and March 2023. We will incorporate feedback received from these partners and stakeholders into the planning policies after the public comment period is complete.

Open Comment Period

While this publication opens the 30-day public review period, we also invite and encourage Tribes, ANCs, ANOs, and the Native Hawaiian Community to continue to review and submit comments within this review period. Comments from local, State, and Federal agencies and other partners and stakeholders are also welcome.

Request for Information

Before including your address, phone number, email address, or other personal identifying information in your comment, you should be aware that your entire comment—including your personal identifying information—may be made publicly available at any time. While you can ask us in your comment to withhold your personal identifying information from public review, we cannot guarantee that we will be able to do so.

Authority

The authority for this action is the National Wildlife Refuge System Administration Act of 1966, as amended by the National Wildlife Refuge System Improvement Act of 1997 (Administration Act, as amended; 16 U.S.C. 668dd-668ee).

Martha Williams,
Director, U.S. Fish and Wildlife Service.

[FR Doc. 2023-19994 Filed 9-14-23; 8:45 am]

BILLING CODE 4333-15-P